ENVIRONMENTAL PROTECTION AGENCY

[EPA-HQ-OW-2003-0019; FRL-8491-2]

Agency Information Collection Activities; Proposed Collection; Comment Request; Clean Watersheds Needs Survey (Renewal); ICR No. 0318.11; OMB Control No. 2040-0050

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost

DATES: Comments must be submitted on or before December 5, 2007.

ADDRESSES: Submit your comments, referencing Docket ID No. EPA-HQ-OW-2003-0019, to (1) EPA online using www.regulations.gov (our preferred method), by email to OW-Docket@epa.gov, or by mail to: EPA Docket Center, Environmental Protection Agency, Water Docket, Mailcode 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Michael Plastino, Municipal Support Division, Office of Wastewater Management (4204M), Environmental Protection Agency, 1200 Pennsylvania Ave., NW., Washington, DC 20460; phone number: 202-564-0682; fax number: 202-501-2397; e-mail address: plastino.michael@epa.gov.

SUPPLEMENTARY INFORMATION: EPA has submitted the following ICR to OMB for review and approval according to the procedures prescribed in 5 CFR 1320.12. On July 23, 2007 (72 FR 40148), EPA sought comments on this ICR pursuant to 5 CFR 1320.8(d). EPA received no comments. Any additional comments on this ICR should be submitted to EPA and OMB within 30 days of this notice.

EPA has established a public docket for this ICR under Docket ID No. EPA-HQ-OW-2003-0019, which is available for online viewing at www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Clean Watersheds Needs Survey (Renewal).

ICR Numbers: EPA ICR No. 0318.11, OMB Control No. 2040-0050.

ICR Status: The current ICR (EPA ICR No. 0318.10) is scheduled to expire on November 30, 2008. The effective date of this ICR renewal (EPA ICR No. 0318.11) is January 22, 2008—at which point EPA ICR No. 0318.10 will be superseded by EPA ICR No. 0318.11. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Clean Watersheds Needs Survey (CWNS) is required by Sections 205(a) and 516 of the Clean Water Act (http://www.epa.gov/cwns). It is a periodic inventory of existing and proposed publicly owned wastewater treatment works (POTWs) and other water pollution control facilities in the United States, as well as an estimate of how many POTWs need to be built. The CWNS is a voluntary, joint effort of EPA and the States. The Survey records cost and technical data associated with POTWs and other water pollution control facilities, existing and proposed, in the United States. The State respondents who provide this information to EPA are State agencies responsible for environmental pollution control. No confidential information is used, nor is sensitive information protected from release under the Public Information Act. EPA achieves national consistency in the final results through the application of uniform guidelines and validation techniques.

Burden Statement: The annual public reporting and recordkeeping burden for this collection of information is estimated to average 1.46 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State governments, water pollution control facilities.

Estimated Number of Respondents: 56 State (States, District of Columbia, and U.S. Territories) respondents and approximately 4,700 water pollution control facilities.

Frequency of Response: Every 4 Years.

Estimated Total Annual Hour Burden: 8,807.

Estimated Total Annual Cost: $305,805. This includes an estimated burden cost of $305,805 and an estimated cost of $0 for capital investment or maintenance and operational costs.

Changes in the Estimates: There is an increase of 1,136 hours in the total estimated burden identified in ICR 0318.09 (the ICR for the CWNS 2004 collection) in the OMB Inventory of Approved ICR Burdens. This increase is due to adjustment in estimates as well as increased ability for respondents to have supporting documentation necessary for responding. These increases were largely offset by burden reductions made through improving the data collection system, reducing data requirements, and streamlining data quality assurance practices.

Dated: October 30, 2007.
Sara Hisel-McCoy,
Director, Collection Strategies Division.

[FR Doc. E7-21689 Filed 11-2-07; 8:45 am]

BILLING CODE 6560-50-P